EQUAL EMPLOYMENT OPPORTUNITY COMMISSION

29 CFR Parts 1601, 1603, 1610, 1615, 1621, and 1626

RIN 3046AA80

Repositioning of Commission Field Offices

AGENCY: Equal Employment Opportunity Commission.

ACTION: Final rule.

SUMMARY: This final rule revises existing EEOC procedural regulations to update position titles, organization titles and office addresses. It does not change the procedures themselves.

DATES: Effective Date: May 9, 2006.

FOR FURTHER INFORMATION CONTACT: Thomas R. Schlageter, Assistant Legal Counsel, Office of Legal Counsel, 1801 L St., NW., Washington, DC 20507, (202) 663-4668, or James G. Allison, Senior Attorney, Office of Legal Counsel, (202) 663-4661. Copies of this final rule are available in the following alternate formats: Large print, braille, electronic computer disk, and audio-tape. Requests for this notice in an alternative formal should be made to the Publications Center at 1-800-699-3362 (voice), 1-800-800-3302 (TTY), or 703-821-2098 (FAX—this is not a toll free number).

SUPPLEMENTARY INFORMATION: The Commission investigates and litigates charges of employment discrimination through its various offices located throughout the country. On July 8, 2005, the Commission voted to reposition its field resources in order to improve service capabilities, reduce costs and enhance supervisory and managerial efficiencies. Additionally, the field repositioning modified the geographic areas of the office jurisdictions. Among other things, the Commission voted to convert eight District Offices to Field or Area Offices, to convert five Area Offices to Local or Field Offices, to open two new offices in Las Vegas, Nevada, and Mobile, Alabama, and to otherwise create new reporting relationships among the field offices. These changes were implemented on January 1, 2006. On April 4, 2006, the Commission voted to eliminate the Systemic Litigation Services and Systemic Investigations and Review Programs in the Office of General Counsel at headquarters so as to refocus emphasis and resources on systemic discrimination investigations and litigation responsibilities in the Commission's offices in the field.

In preparing the revisions required by the July 5 and April 4 Commission votes, we noticed that the regulations did not reflect correct organization and position titles connected with organizational changes made at headquarters in 1991 and 1997, i.e., the Office of Program Operations became the Office of Field Programs, the Equal Employment Opportunity staff became the Office of Equal Opportunity, and the Determinations Review Program was abolished. Consequently, those changes are being made now. Lastly, we updated addresses of our offices. This Final Rule modifies 29 CFR parts 1601, 1603, 1610, 1615, 1621 and 1626 to reflect these changes.

Regulatory Procedures

Executive Order 12866

This action pertains to agency organization, management or personnel matters and therefore is not a rule within the meaning of section 3(d)(3) of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because it does not affect any small business entities. The regulation affects only the Equal Employment Opportunity Commission. For this reason, a regulatory flexibility analysis is not required.

Unfunded Mandates Reform Act of 1995

This final rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action pertains to the Commission's management, personnel and organization and does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Part 1601, 1603, 1610, 1615, 1621, and 1626

Administrative practice and procedure, Equal Employment Opportunity.

For the Commission.
Dated: May 3, 2006.
Cari M. Dominguez,
Chair.

Accordingly, the Equal Employment Opportunity Commission amends 29 CFR parts 1601, 1603, 1610, 1615, 1621, and 1626 as follows:

PART 1601—PROCEDURAL REGULATIONS

1. The authority citation for part 1601 continues to read as follows:

Authority: 42 U.S.C. 2000e to 2000e-17; 42 U.S.C. 12111 to 12117.

Subpart A—Definitions

§ 1601.3 [Amended]

2. Amend § 1601.3 (a) by removing the words “the term field office shall mean any of the Commission's District Offices, Area Offices and Local Offices and its Washington Field Office.”

3. Revise § 1601.5 to read as follows:

§ 1601.5 District; area; supervisor authority.

The term “district” as used herein shall mean that part of the United States or any territory thereof fixed by the Commission as a particular district. The term “district director” shall refer to that person designated as the Commission's chief officer in each district. The term “Washington Field Office Director” shall refer to that person designated as the Commission's chief officer in the Washington Field Office. Any authority of, or delegation of authority to, District Directors shall be deemed to include the Director of the Washington Field Office. The term “field” shall mean that part of the United States within a district fixed by the Commission as a particular subunit of a district, except for the Washington Field Office which is not part of any district fixed by the Commission. The term “field director” shall refer to that person designated as the Commission's chief officer in each field. The term “area” shall mean that part of the United States within a district fixed by the Commission as a particular subunit of a district. The term “area director” shall refer to that person designated as the Commission's chief officer in each area. The term “local office” shall mean an EEOC office with responsibility over a part of the United States within a district fixed by the Commission as a particular subunit of a district. The term “local director” shall refer to that person designated as the Commission's chief officer for the local office. Each district office and the Washington Field Office will operate under the supervision of the Director, Office of Field Programs through the Director of Field Management Programs, and the General Counsel. Each field, area and local office, except for the Washington Field Office, will operate under the supervision of the district director. Any or all delegations, or actions taken, as provided by this part may be revoked and /or exercised by the supervisor in keeping with the supervisory structure described in this section.

Subpart B—Procedure for the Prevention of Unlawful Employment Practices

§ 1601.6 [Amended]

4. Amend § 1601.6(a) by removing the word “field” from the last sentence and adding, in its place, the words “District, Field, Area or Local.”

§ 1601.8 [Amended]

5. Amend § 1601.8 as follows:

a. In the first sentence, remove the words “the offices” and add, in their place, the words “any office” and remove the words “in Washington, DC or any of its field offices”.

b. In the second sentence, remove the word “field.”

6. Revise the second sentence of § 1601.10 to read as follows:

§ 1601.10 Withdrawal of a charge by a person claiming to be aggrieved.

* * * The Commission hereby delegates authority to District Directors, Field Directors, Area Directors, Local Directors, the Director of the Office of Field Programs and the Director of Field Management Programs, or their designees, to grant consent to a request to withdraw a charge, other than a Commissioner charge, where the withdrawal of the charge will not defeat the purposes of title VII or the ADA.

7. Revise § 1601.14(b) to read as follows:

§ 1601.14 Service of a charge or notice of a charge.

* * * * *

(b) District Directors, Field Directors, Area Directors, Local Directors, the Director of the Office of Field Programs, and the Director of Field Management Programs, or their designees, are hereby delegated the authority to issue the notice described in paragraph (a) of this section.

8. Amend § 1601.16 by revising the first sentence of the concluding paragraph of paragraph (a) to read as follows:

§ 1601.16 Access to and production of evidence; testimony of witnesses; procedures and authority.

(a) * * *

(1) * * *

(2) * * *

(3) * * *

Any District Director, and the Director of the Office of Field Programs, or upon delegation, the Director of Field Management Programs, or any representatives designated by the Commission, may sign and issue a subpoena on behalf of the Commission. * * *

* * * * *

9. Revise the first and second sentences of § 1601.18(f) to read as follows:

§ 1601.18 Dismissal: Procedure and authority.

* * * * *

(f) The Commission hereby delegates authority to District Directors; the Director of the Office of Field Programs, or upon delegation, the Director of Field Management Programs, as appropriate, to dismiss charges, as limited by § 1601.21(d). The Commission hereby delegates authority to Field Directors, Area Directors and Local Directors to dismiss charges pursuant to paragraphs (a), (b) and (c) of this section, as limited by § 1601.21(d). * * *

10. Revise the fourth sentence of § 1601.19(a) to read as follows:

§ 1601.19 No cause determinations: Procedure and authority.

(a) * * * The Commission hereby delegates authority to the Director of the Office of Field Programs, or upon delegation to the Director of Field Management Programs, and District Directors or upon delegation to Field Directors, Area Directors or Local Directors, except in those cases involving issues currently designated by the Commission for priority review, to issue no cause letters of determination.

* * * * *

11. Revise the second sentence of § 1601.20(a) to read as follows:

§ 1601.20 Negotiated settlement.

(a) * * * District Directors, Field Directors, Area Directors, Local Directors, the Director of the Office of Field Programs, the Director of Field Management Programs, or their designees, shall have the authority to sign any settlement agreement which is agreeable to both parties. * * *

* * * * *

12. Revise the first and third sentences of § 1601.21(d) introductory text to read as follows:

§ 1601.21 Reasonable cause determinations: Procedure and authority.

* * * * *

(d) The Commission hereby delegates to District Directors, or upon delegation, Field Directors, Area Directors or Local Directors; and the Director of the Office of Field Programs, or upon delegation, the Director of Field Management Programs, the authority, except in those cases involving issues currently designated by the Commission for priority review, upon completion of an investigation, to make a determination finding reasonable cause, issue a cause letter of determination and serve a copy of the determination upon the parties. * * * However, the Director of the Office of Field Programs, or upon delegation, the Director of Field Management Programs; each District Director; each Field Director; each Area Director and each Local Director, for the determinations issued by his or her office, may on his or her own initiative reconsider such determinations, except that such directors may not reconsider determinations of reasonable cause previously issued against a government, governmental agency or political subdivision after a failure of conciliation as set forth in § 1601.25.

* * * * *

§ 1601.23 [Amended]

13. Amend sections 1601.23(a) and (b) to remove the words “Program Director, Office of Program Operations or upon delegation, the Director of Systemic Program Operations, Office of Program Operations or the Directors, Field Management Programs, Office of Program Operations” and add, in their place, the words “Director of the Office of Field Programs or upon delegation, the Director of Field Management Programs.”

14. Revise the first two sentences of § 1601.24(b) to read as follows:

§ 1601.24 Conciliation: Procedure and authority.

* * * * *

(b) District Directors; the Director of the Office of Field Programs or the Director of Field Management Programs; or their designees are hereby delegated authority to enter into informal conciliation efforts. District Directors or upon delegation, Field Directors, Area Directors, or Local Directors; the Director of the Office of Field Programs; or the Director of Field Management Programs are hereby delegated the authority to negotiate and sign conciliation agreements. * * *

* * * * *

§ 1601.25 [Amended]

15. Amend § 1601.25 as follows:

(a) Remove the words “Program Director, Office of Program Operations” and add, in their place, the words “Director of the Office of Field Programs.”

(b) Remove the words “Director of Systemic Programs, Office of Program Operations.”

(c) Remove the words “Directors, Field Management Programs, Office of Program Operations” and add, in their place, the words “Director of Field Management Programs.”

16. Amend § 1601.28 by revising paragraphs (a)(2), (a)(3) and (c) and footnote 1 to read as follows:

§ 1601.28 Notice of right to sue: Procedure and authority.

(a) * * *

(2) When a person claiming to be aggrieved requests, in writing, that a notice of right to sue be issued, and the charge to which the request relates is filed against a respondent other than a government, governmental agency or political subdivision, the Commission may issue such notice as described in § 1601.28(e) with copies to all parties, at any time prior to the expiration of 180 days from the date of filing of the charge with the Commission; provided that the District Director, the Field Director, the Area Director, the Local Director, the Director of the Office of Field Programs or upon delegation, the Director of Field Management Programs has determined that it is probable that the Commission will be unable to complete its administrative processing of the charge within 180 days from the filing of the charge and has attached a written certificate to that effect.

(3) Issuance of a notice of right to sue shall terminate further proceeding of any charge that is not a Commissioner charge unless the District Director; Field Director; Area Director; Local Director; Director of the Office of Field Programs or upon delegation, the Director of Field Management Programs; or the General Counsel, determines at that time or at a later time that it would effectuate the purpose of title VII or the ADA to further process the charge. Issuance of a notice of right to sue shall not terminate the processing of a Commissioner charge.

* * * * *

(c) The Commission hereby delegates authority to District Directors, Field Directors, Area Directors, Local Directors, the Director of the Office of Field Programs, or Director of Field Management Programs or their designees, to issue notices of right to sue, in accordance with this section, on behalf of the Commission. Where a charge has been filed on behalf of a person claiming to be aggrieved, the notice of right to sue shall be issued in the name of the person or organization who filed the charge.¹

* * * * *

¹ Formal Ratification-Notice is hereby given that the EEOC at a Commission meeting on March 12, 1974, formally ratified the acts of the District Directors of EEOC District Offices in issuing notices of right to sue pursuant to Commission practice instituted on October 15, 1969, and continued through March 18, 1974. 39 FR 10178 (March 18, 1974).

* * * * *

PART 1603—PROCEDURES FOR PREVIOUSLY EXEMPT STATE AND LOCAL GOVERNMENT EMPLOYEE COMPLAINTS OF EMPLOYMENT DISCRIMINATION UNDER SECTION 321 OF THE GOVERNMENT EMPLOYEE RIGHTS ACT OF 1991 [AMENDED]

17. The authority citation for part 1603 continues to read as follows:

Authority: 2 U.S.C. 1220.

Subpart A—Administrative Process

18. Revise § 1603.102(b) to read as follows:

§ 1603.102 Filing a complaint.

* * * * *

(b) Where to file a complaint. A complaint may be filed in person, by mail or by facsimile machine to any Commission office or with any designated agent or representative of the Commission. The addresses of the Commission's District, Field, Area and Local offices appear in 29 CFR 1610.4.

* * * * *

PART 1610—AVAILABILITY OF RECORDS [AMENDED]

19. The authority citation for part 1610 continues to read as follows:

Authority: 42 U.S.C. 2000e-12a; 5 U.S.C. 552 as amended by Pub. L. 93-502, Pub. L. 99-570, and Pub. L. 105-231; for § 1610.15, non-search or copy portions are issued under 31 U.S.C. 9701.

Subpart A—Production or Disclosure Under 5 U.S.C. 552

20. Amend § 1610.4 by revising the introductory text of paragraph (b) and paragraph (c) to read as follows:

§ 1610.4 Public reference facilities and current index.

* * * * *

(b) Each Commission office shall maintain and make available for public inspection and copying a copy of: * * *

(c) The Commission's offices are:

Albuquerque Area Office (Phoenix District), 505 Marquette, NW., Suite 900, Albuquerque, NM 87102.

Atlanta District Office, 100 Alabama Street, SW., Suite 4R30, Atlanta, GA 30303.

Baltimore Field Office (Philadelphia District), City Crescent Building, 10 South Howard Street, 3rd Floor, Baltimore, MD 21201.

Birmingham District Office, Ridge Park Place, 1130 22nd Street South, Suite 2000, Birmingham, AL 35205-2397.

Boston Area Office (New York District), John F. Kennedy Federal Building, Government Center, Fourth Floor, Room 475, Boston, MA 02203-0506.

Buffalo Local Office (New York District), 6 Fountain Plaza, Suite 350, Buffalo, NY 14202.

Charlotte District Office, 129 West Trade Street, Suite 400, Charlotte, NC 28202.

Chicago District Office, 500 West Madison Street, Suite 2800, Chicago, IL 60661.

Cincinnati Area Office (Indianapolis District), 550 Main Street, Suite 10019, Cincinnati, OH 45202-5202.

Cleveland Field Office (Philadelphia District), 1240 E. 9th Street, Suite 3001, Cleveland, OH 44199.

Dallas District Office, 207 S. Houston Street, 3rd Floor, Dallas, TX 75202-4726.

Denver Field Office (Phoenix District), 303 E. 17th Avenue, Suite 510, Denver, CO 80203.

Detroit Field Office (Indianapolis District), 477 Michigan Avenue, Room 865, Detroit, MI 48226-2523.

El Paso Area Office (Dallas District), 300 East Main Street, Suite 500, El Paso, TX 79901-1331.

Fresno Local Office (Los Angeles District), 1265 West Shaw Avenue, Suite 103, Fresno, CA 93711.

Greensboro Local Office (Charlotte District), 2303 West Meadowview Road, Suite 201, Greensboro, NC 27405.

Greenville Local Office (Charlotte District), 301 North Main Street, Suite 1402, Greenville, SC 29601.

Honolulu Local Office (Los Angeles District), 300 Ala Moana Boulevard, Room 7-127, PO Box 50082, Honolulu, HI 96850-0051.

Houston District Office, Mickey Leland Federal Building, 1919 Smith Street, 7th Floor, Houston, TX 77002-8049.

Indianapolis District Office, 101 West Ohio Street, Suite 1900, Indianapolis, IN 46204-4203.

Jackson Area Office (Birmingham District), Dr. A.H. McCoy Federal Building, 100 West Capitol Street, Suite 207, Jackson, MS 39269.

Kansas City Area Office (St. Louis District), Gateway Tower II, 400 State Avenue, Suite 905, Kansas City, KS 66101.

Las Vegas Local Office (Los Angeles District), not yet open.

Little Rock Area Office (Memphis District), 820 Louisiana Street, Suite 200, Little Rock, AR 72201.

Los Angeles District Office, 255 E. Temple Street, 4th Floor, Los Angeles, CA 90012.

Louisville Area Office (Indianapolis District), 600 Dr. Martin Luther King Jr. Place, Suite 268, Louisville, KY 40202.

Memphis District Office, 1407 Union Avenue, Suite 621, Memphis, TN 38104.

Miami District Office, One Biscayne Tower, 2 South Biscayne Boulevard, Suite 2700, Miami, FL 33131.

Milwaukee Area Office (Chicago District), 310 West Wisconsin Avenue, Suite 800, Milwaukee, WI 53203-2292.

Minneapolis Area Office (Chicago District), 330 South Second Avenue, Suite 430, Minneapolis, MN 55401-2224.

Mobile Local Office (Birmingham District), not yet open.

Nashville Area Office (Memphis District), 50 Vantage Way, Suite 202, Nashville, TN 37228-9940.

Newark Area Office (New York District), 1 Newark Center, 21st Floor, Newark, NJ 07102-5233.

New Orleans Field Office (Houston District), 1555 Poydras, Suite 1900, New Orleans, LA 70112.

New York District Office, 33 Whitehall Street, 5th Floor, New York, NY 10004.

Norfolk Local Office (Charlotte District), Federal Building, 200 Granby Street, Suite 739, Norfolk, VA 23510.

Oakland Local Office (San Francisco District), 1301 Clay Street, Suite 1170-N, Oakland, CA 94612-5217.

Oklahoma City Area Office (St. Louis District), 210 Park Avenue, Suite 1350, Oklahoma City, OK 73102.

Philadelphia District Office, 21 South 5th Street, Suite 400, Philadelphia, PA 19106-2515.

Phoenix District Office, 3300 N. Central Avenue, Suite 690, Phoenix, AZ 85012-2504.

Pittsburgh Area Office (Philadelphia District), Liberty Center, 1001 Liberty Avenue, Suite 300, Pittsburgh, PA 15222-4187.

Raleigh Area Office (Charlotte District), 1309 Annapolis Drive, Raleigh, NC 27608-2129.

Richmond Local Office (Charlotte District), 830 East Main Street, Suite 600, Richmond, VA 23219.

San Antonio Field Office (Dallas District), 5410 Fredericksburg Road, Suite 200, San Antonio, TX 78229-3555.

San Diego Local Office (Los Angeles District), 401 B Street, Suite 510, San Diego, CA 92101.

San Francisco District Office, 350 Embarcadaro, Suite 500, San Francisco, CA 94105-1687.

San Jose Local Office (San Francisco District), 96 North 3rd Street, Suite 200, San Jose, CA 95112.

San Juan Local Office (Miami District), 525 F.D. Roosevelt Ave., Plazas Las Americas, Suite 1202, San Juan, Puerto Rico 00918-8001.

Savannah Local Office (Atlanta District), 410 Mall Boulevard, Suite G, Savannah, GA 31406-4821.

Seattle Field Office (San Francisco District), Federal Office Building, 909 First Avenue, Suite 400, Seattle, WA 98104-1061.

St. Louis District Office, Robert A. Young Building, 1222 Spruce Street, Room 8.100, St. Louis, MO 63103.

Tampa Field Office (Miami District), 501 East Polk Street, Room 1000, Tampa, FL 33602.

Washington Field Office (Charlotte District), 1801 L Street, NW., Suite 100, Washington, DC 20507.

21. Revise § 1610.7(a) to read as follows:

§ 1610.7 Where to make request; form.

(a) Requests for the following types of records shall be submitted to the regional attorney for the pertinent district, field, area or local office, at the district office address listed in § 1610.4(c) or, in the case of the Washington Field Office, shall be submitted to the regional attorney in the Charlotte District Office at the address listed in § 1610.4(c).

(1) Information about current or former employees of an office;

(2) Existing non-confidential statistical data related to the case processing of an office;

(3) Agreements between the Commission and State or local fair employment agencies operating within the jurisdiction of an office; or

(4) Materials in office investigative files related to charges under: Title VII of the Civil Rights Act of 1964 (42 U.S.C. 2000e et seq.); the Equal Pay Act (29 U.S.C. 206(d)); the Age Discrimination in Employment Act of 1967 (29 U.S.C. 621 et seq.); or, the Americans with Disabilities Act of 1990 (42 U.S.C. 12101 et seq.)

* * * * *

22. Revise § 1610.14(b) to read as follows:

§ 1610.14 Waiver of user charges.

* * * * *

(b) District directors, field directors, area directors, local directors and the librarian are hereby authorized to collect fees where applicable in accordance with § 1610.15 for duplication of records which are to be made available for public inspection and copying in the district, field, area or local office, or in the headquarters library in accordance with § 1610.4(b). District directors, field directors, area directors, local directors and the librarian are hereby authorized to duplicate such records without charge, or at a reduced charge in accordance with the criteria of paragraph (a) of this section.

PART 1615—ENFORCEMENT OF NONDISCRIMINATION ON THE BASIS OF HANDICAP IN PROGRAMS OR ACTIVITIES CONDUCTED BY THE EQUAL EMPLOYMENT OPPORTUNITY COMMISSION [AMENDED]

23. The authority citation for part 1615 continues to read as follows:

Authority: 29 U.S.C. 794.

§ 1615.170 [Amended]

24. Amend § 1615.170 as follows:

a. In paragraphs (d) (1) and (2), remove the words “Director, Equal Employment Opportunity Staff” and add, in their place, the words “Director, Office of Equal Opportunity.”

b. In paragraphs (e)(1) and (e)(2), remove the words “EEO Director” and add, in their place, the words “Director, Office of Equal Opportunity.”

PART 1621—PROCEDURES—THE EQUAL PAY ACT [AMENDED]

25. The authority citation for part 1621 continues to read as follows:

Authority: Secs. 1-19, 52 Stat. 1060, as amended, secs. 10-16, 61 Stat. 84, Pub. L. 88-38, 77 Stat. 56 (29 U.S.C. 201 et seq.); sec. 1, Reorgan. Plan No. 1 of 1978, 43 FR 19807; E.O. 12144, 44 FR 37193.

§ 1621.3 [Amended]

26. Amend § 1621.3(a) introductory text by removing the words “2401 E Street” and adding, in their place, “1801 L Street.”

PART 1626—PROCEDURES—AGE DISCRIMINATION IN EMPLOYMENT ACT [AMENDED]

27. The authority citation for part 1626 continues to read as follows:

Authority: Sec. 9, 81 Stat. 605, 29 U.S.C. 628; sec. 2 Reorg. Plan No. 1 of 1978, 3 CFR, 1978 Comp., p. 321.

28. Revise § 1626.5 to read as follows:

§ 1626.5 Where to submit complaints and charges.

Complaints and charges may be submitted in person, by telephone, or by mail to any office of the Commission or to any designated representative of the Commission. The addresses of the Commission's offices appear at § 1610.4.

§ 1626.15 [Amended]

29. Amend the first sentence in § 1626.15(e) by removing the words “the Washington Field Office Director, and the Director of the Office of Program Operations” and adding, in their place, the words “the Field Directors, the Director of the Office of Field Programs.”

§ 1626.16 [Amended]

30. Amend the first sentence in § 1626.16(b) by removing the words “the Washington Field Office Director, the Director of the Office of Program Operations” and adding, in their place, the words “the Field Directors, the Director of the Office of Field Programs.”

31. Amend § 1626.17 by revising paragraph (b) to read as follows:

§ 1626.17 Notice of dismissal or termination.

* * * * *

(b) Delegation of Authority To Issue Notices of Dismissal or Termination. The Commission hereby delegates authority to issue Notices of Dismissal or Termination, in accordance with this section, to: Directors of District, Field, Area and Local offices; the Director of the Office of Field Programs; the Director of Field Management Programs, Office of Field Programs; the General Counsel; or their designees.

* * * * *

§ 1626.18 [Amended]

32. Amend § 1626.18(d) by adding the words “Field Director;” after the words “District Director.”

[FR Doc. 06-4320 Filed 5-8-06; 8:45 am]

BILLING CODE 6570-01-P